DEPARTMENT OF TRANSPORTATION

Federal Aviation Administration

14 CFR Part 71

[Docket No. FAA-2006-24686; Airspace Docket No. 06-ASO-7]

Establishment of Class E Airspace; Nicholasville, KY; Correction

AGENCY: Federal Aviation Administration (FAA), DOT.

ACTION: Correcting amendments.

SUMMARY: This document contains a correction to the final rule (FAA-2005-23075; 05-ASO-12), which was published in the Federal Register of February 28, 2006, (71 FR 9908), establishing Class E airspace at Nicholasville, KY. This action corrects an error in the geographic coordinates for the Class E5 airspace at Nicholasville, KY.

Effective Dates: 0901 UTC, August 3, 2006.

FOR FURTHER INFORMATION CONTACT: Mark D. Ward, Manager, Airspace and Operations Branch, Eastern En Route and Oceanic Service Area, Federal Aviation Administration, P.O. Box 20636, Atlanta, Georgia 30320; telephone (404) 305-5586.

SUPPLEMENTARY INFORMATION:

Background

Federal Register Document 71-39, Airspace Docket No. FAA-2005-23075; Airspace Docket No. 05-ASO-12, published on February 28, 2006, (71 FR 9908), established Class E5 airspace at Nicholasville, KY. An error was discovered in the geographic coordinates describing the Class E5 airspace area. What should have been latitude 37°52′17″ N, longitude, 84°36′38″ W, was publish as latitude 37°52′16″ N, longitude. 84°36′39″W. This action corrects that error.

Designations for Class E airspace areas extending upward from 700 feet or more above the surface of the earth are published in FAA Order 7400.9N, dated September 1, 2005, and effective September 16, 2005, which is incorporated by reference in 14 CFR 71.1. The Class E designations listed in this document will be published subsequently in the Order.

Need for Correction

As published, the final rule contains an error which identifies an incorrect geographical position for the location of the Class E5 airspace area. Accordingly, pursuant to the authority delegated to me, the geographic coordinates for the Class E5 airspace area at Nicholasville, KY, incorporated by reference at § 71.1, 14 CFR 71.1, and published in the Federal Register on March 31, 2000, (65 FR 17133), is corrected by making the following correcting amendment.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Corrected]

2. The incorporation by reference in 14 CFR 71.1 of Federal Aviation Administration Order 7400.9N, Airspace Designations and Reporting Points, dated September 1, 2005, and effective September 16, 2005, is amended as follows:

Paragraph 6005 Class E airspace areas extending upward from 700 feet or more above the surface of the earth.

* * * * *

ASO KY E5 Nicholasville, KY [Corrected]

Lucas Field Airport, KY

(Lat. 37°52′17″N, long. 84°36′38″W)

That airspace extending upward from 700 feet above the surface within a 6.5 - radius of Lucas Field Airport; excluding that airspace within the Lexington, KY, Class E airspace area.

* * * * *

Issued in College Park, Georgia, on May 31, 2006.
Mark D. Ward,
Acting Area Director, Air Traffic Division, Southern Region.

[FR Doc. 06-5186 Filed 6-6-06; 8:45 am]

BILLING CODE 4910-13-M